DEPARTMENT OF HEALTH AND HUMAN SERVICES

National Institutes of Health

Using Informatics To Improve Data Analysis of Chemical Screening Assays Conducted in Zebrafish; Notice of Webinars; Registration Information

SUMMARY: The National Toxicology Program (NTP) at the National Institute of Environmental Health Sciences announces the webinar series, “Using Informatics to Improve Data Analysis of Chemical Screening Assays Conducted in Zebrafish.” The webinars will provide an overview of current issues that need to be addressed to facilitate the broader use of zebrafish for chemical safety screening studies and how data science can be applied to address some of those issues.

DATES: First Webinar: February 2, 2017, from 11:30 a.m. to 1:00 p.m. Eastern Standard Time (EST).

Subsequent Webinars: February 16, 2017; March 2, 2017; both webinars will be presented from 11:30 a.m. to 12:30 p.m. EST.

Registration for Webinars: Registration will be open continuously; registration for any webinar will automatically register the participant for all subsequent webinars.

ADDRESSES: Web page: The preliminary agenda, registration, and other meeting materials are at http://ntp.niehs.nih.gov/go/zfweb-2017.

FOR FURTHER INFORMATION CONTACT: Dr. Elizabeth Maull, NTP Interagency Center for the Evaluation of Alternative Toxicological Methods (NICEATM), at telephone: (919) 316-4668 or email: maull@niehs.nih.gov.

SUPPLEMENTARY INFORMATION: Background: The small size and rapid development of the zebrafish make it a useful vertebrate model for assessing potential effects of chemicals on development in a medium to high-throughput manner. However, a lack of harmonization in several key protocol components hinders the broader adoption of the zebrafish model for toxicological screening. In an effort to address this issue, NTP launched the Systematic Evaluation of the Application of Zebrafish in Toxicology (SEAZIT) program.

SEAZIT is addressing the issues of variability among laboratories in the endpoints measured, as well as the nomenclature used for each endpoint. NICEATM is organizing a webinar series in support of the SEAZIT program that will consider how these issues might be addressed by implementation of standardized nomenclature systems, also known as ontologies.

Webinars in this series will (1) summarize some of the barriers to routine use of zebrafish in toxicological evaluations, (2) review the concept of ontologies, and (3) consider how ontologies could be applied to harmonize procedures used for zebrafish screening studies.

Webinar Topics and Other Information: A link to registration and additional information about the webinar series, including topics and speakers for all webinars, are available at http://ntp.niehs.nih.gov/go/zfweb-2017. The webinar steering committee is comprised of representatives from academia, industry, and government.

Webinar and Registration: The webinars are open to the public, free of charge, with attendance limited only by available webcasting capacity. Individuals who plan to attend the first webinar should register at http://ntp.niehs.nih.gov/go/zfweb-2017 by February 2, 2017. Subsequent webinars will be presented on February 16 and March 2; registration for any webinar will automatically register the participant for all subsequent webinars. Interested individuals are encouraged to visit http://ntp.niehs.nih.gov/go/zfweb-2017 to stay abreast of the most current information about the webinar series.

Individuals with disabilities who need accommodation to participate in this event should contact Dr. Elizabeth Maull at telephone: (919) 316-4668 or email: maull@niehs.nih.gov. TTY users should contact the Federal TTY Relay Service at (800) 877-8339. Requests should be made at least five business days in advance of the event.

Background Information on NICEATM: NICEATM conducts data analyses, workshops, independent validation studies, and other activities to assess new, revised, and alternative test methods and strategies. NICEATM also provides support for the Interagency Coordinating Committee on the Validation of Alternative Methods (ICCVAM). The ICCVAM Authorization Act of 2000 (42 U.S.C. 285l-3) provides authority for ICCVAM and NICEATM in the development of alternative test methods. Information about NICEATM and ICCVAM is found at http://ntp.niehs.nih.gov/go/niceatm and http://ntp.niehs.nih.gov/go/iccvam, respectively.

Dated: December 20, 2016.
John R. Bucher,
Associate Director, National Toxicology Program.

[FR Doc. 2016-31438 Filed 12-28-16; 8:45 am]

BILLING CODE 4140-01-P